DEPARTMENT OF TRANSPORTATION

Federal Aviation Administration

Sixty-Fourth Meeting: Special Committee (186) Automatic Dependent Surveillance-Broadcast (ADS-B)

AGENCY: Federal Aviation Administration (FAA), U.S. Department of Transportation (DOT).

ACTION: Notice of sixty-fourth Special Committee 186 meeting.

SUMMARY: The FAA is issuing this notice to advise the public of the sixty-fourth Special Committee 186 meeting.

DATES: The meeting will be held October 27th-30th from 9:00 a.m.-1:00 p.m.

ADDRESSES: The meeting will be held at RTCA, Inc., 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Harold Moses, Program Director, RTCA, Inc., hmoses@rtca.org, (202) 330-0654.

SUPPLEMENTARY INFORMATION: Pursuant to section 10(a)(2) of the Federal Advisory Committee Act (Pub. L. 92-463, 5 U.S.C., App.), notice is hereby given for a meeting of Special Committee 186. The agenda will include the following:

Tuesday, October 27, 2015

1. All Day, WG-4/EUROCAE SubGroup 3—Application Technical Requirements, NBAA Room & Colson Board Room

Wednesday, October 28, 2015

1. All Day, WG-4/EUROCAE SubGroup 3—Application Technical Requirements, NBAA Room & Colson Board Room

Thursday, October 29, 2015

1. All Day, WG-4/EUROCAE SubGroup 3—Application Technical Requirements, NBAA Room & Colson Board Room

Friday, October 30, 2015 (Plenary Session)

1. Chairman's Introductory Remarks

2. Review of Meeting Agenda

3. Review/Approval of the Sixty-third Meeting Summary

4. FAA Surveillance and Broadcast Services (SBS) Program—Status

5. WG-4—Application Technical Requirements

a. A-IM: Planned scope, schedule, and work plan

6. SC-214/WG-78 Status of final release of CPDLC messages for IM AACD and PTM

7. Wake/MET Data: SC-206 Status/Tiger Team Deliverable

8. WG-3—Extended Squitter MOPS

a. Plans to initiate work on DO-260C

b. Corresponding efforts for SC-209

9. ADS-B Implementation

a. ADS-B Equipage Update

b. FAA Broadcast Services (TIS-B, FIS-B, ADS-R)

10. Date, Place and Time of Next Meeting

11. New Business

a. Impact of SC-147 ACAS XO on DO-317 requirements and A-IM functions

12. Other Business

13. Review Action Items/Work Programs

14. Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 8, 2015.
Latasha Robinson,
Management & Program Analyst, Next Generation, Enterprise Support Services Division, Federal Aviation Administration.

[FR Doc. 2015-25852 Filed 10-9-15; 8:45 am]

BILLING CODE 4910-13-P